ENVIRONMENTAL PROTECTION AGENCY

[EPA-HQ-OAR-2003-0073; FRL-13087-01-OMS]

Agency Information Collection Activities Request; Submission to the Office of Management and Budget for Review and Approval; Comment Request; Distribution of Offsite Consequence Analysis Information Under the Clean Air Act, as Amended (Renewal)

AGENCY: Environmental Protection Agency (EPA).

ACTION: Notice.

SUMMARY: The Environmental Protection Agency (EPA) has submitted an information collection request (ICR), Distribution of Offsite Consequence Analysis Information under the Clean Air Act, As Amended (EPA ICR Number 1981.09, OMB Control Number 2050-0172) to the Office of Management and Budget (OMB) for review and approval in accordance with the Paperwork Reduction Act (PRA). This is a proposed extension of the ICR, which is currently approved through November 30, 2025. Public comments were previously requested via the Federal Register on April 17, 2025 during a 60-day comment period. This notice allows for an additional 30 days for public comments.

DATES: Comments must be submitted on or before December 22, 2025.

ADDRESSES: Submit your comments, referencing Docket ID Number EPA-HQ-OAR-2003-0073, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: William Noggle, Office of Emergency Management, Mail Code 5104A, Environmental Protection Agency, 1200 Pennsylvania Ave. NW, Washington, DC 20460; telephone number: (202) 566-1306; email address: noggle.william@epa.gov.

SUPPLEMENTARY INFORMATION: This is a proposed extension of the ICR, which is currently approved through November 30, 2025. An agency may not conduct or sponsor and a person is not required to respond to a collection of information unless it displays a currently valid OMB control number.

Public comments were previously requested via the Federal Register on April 17, 2025 during a 60-day comment period (90 FR 16125), however, no comments were received. This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR renewal is for the final rule, Accidental Release Prevention Requirements; Risk Management Programs Under the Clean Air Act Section 112(r)(7); Distribution of Off-Site Consequence Analysis Information. CAA section 112(r)(7) required EPA to promulgate reasonable regulations and appropriate guidance to provide for the prevention and detection of accidental releases and for responses to such releases. The regulations include requirements for submittal of a risk management plan (RMP) to EPA. The RMP includes information on off-site consequence analyses (OCA) as well as other required program elements.

The Chemical Safety Information, Site Security, and Fuels Regulatory Relief Act (CSISSFRRA) required the President to promulgate regulations on the distribution of OCA information (CAA section 112(r)(7)(H)(ii)). The President delegated this responsibility to EPA and the Department of Justice (DOJ). The final rule, published on August 4, 2000 (65 FR 48108), imposed minimal information and recordkeeping requirements.

In accordance with the final rule, the Federal Government established 55 reading rooms at Federal facilities geographically distributed across the United States and its territories. At these reading rooms, members of the public are able to read, but not mechanically copy or remove, paper copies of OCA information for up to 10 stationary sources per calendar month. Members of the public may also have access to OCA information that the Local Emergency Planning Committee (LEPC) in whose jurisdiction the person lives or works, is authorized to provide. The final rule also authorizes and encourages state and local government officials to have access to OCA information for their official use.

EPA also established a Vulnerable Zone Indicator System (VZIS) which informs any person located in any state whether an address specified by that person might be within the vulnerable zone of one or more stationary sources, according to the data reported in RMPs. The VZIS is available on the internet or through a request through regular mail to the EPA.

This request for comments relates to the renewal of the existing approved ICR.

Form numbers: None.

Respondents/affected entities: State and local agencies and the public.

Respondent's obligation to respond: Required to obtain or retain a benefit (40 CFR part 1400).

Estimated number of respondents: 385 (total).

Frequency of response: As necessary.

Total estimated burden: 610 hours (per year). Burden is defined at 5 CFR 1320.03(b).

Total estimated cost: $32,145 (per year), includes $42 annualized capital or operation & maintenance costs.

Changes in the estimates: There is a decrease of 53 hours annually in the total estimated respondent burden compared with the ICR currently approved by OMB. The currently approved ICR estimates 663 hours of annual burden of which 337 hours is on the public and 326 hours are on state and local governments. The estimated annual burden hours on the public have increased by two hours up to 339 hours due to two additional visits to Federal reading rooms per year. The estimated annual burden hours on state and local governments have decreased by 55 hours down to 271 hours due to fewer requests for OCA data by state and local governments. Additionally, the estimated annualized capital costs have decreased from $81 in the currently approved ICR down to $42 due to fewer requests.

Courtney Kerwin,
Director, Information Engagement Division.

[FR Doc. 2025-20410 Filed 11-19-25; 8:45 am]

BILLING CODE 6560-50-P